DEPARTMENT OF TRANSPORTATION

Pipeline and Hazardous Materials Safety Administration

Office of Hazardous Materials Safety; Notice of Delays in Processing of Special Permit Applications

AGENCY: Pipeline and Hazardous Materials Safety Administration, DOT.

ACTION: List of Application Delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ann Mazzullo, Office of Hazardous Materials Special Permits and Approvals, Pipeline and Hazardous Materials Safety Administration, U.S. Department of Transportation, 400 Seventh Street, SW., Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application.

M—Modification request.

X—Renewal.

PM—Party to application with modification request.

Issued in Washington, DC, on January 31, 2006.
R. Ryan Posten,
Chief, Special Permits Program, Office of Hazardous Materials Safety, Special Permits & Approvals.

Application No. | Applicant | Reason for delay | Estimated date of completion
New Special Permit Applications
13281-N | The Dow Chemical Company, Midland, MI | 4 | 03-31-2006
13266-N | Luxfer Gas Cylinders, Riverside, CA | 4 | 03-31-2006
13309-N | OPW Engineered Systems, Lebanon, OH | 4 | 03-31-2006
13347-N | Amvac Chemical Corporation, Los Angeles, CA | 4 | 03-31-2006
13341-N | National Propane Gas Association, Washington, DC | 3 | 03-31-2006
13999-N | Kompozit-Praha s.r.o., Dysina u Plzne, Czech Republic, CZ | 4 | 03-31-2006
14138-N | INO Therapeutics, Inc., Port Allen, LA | 4 | 03-31-2006
14151-N | ChevronTexaco, Houston, TX | 4 | 03-31-2006
14167-N | Trinityrail | 4 | 03-31-2006
14209-N | ABB Power Technologies AB, Alamo, TN | 4 | 02-28-2006
14215-N | U.S. Department of Energy, Washington, DC | 4 | 02-28-2006
14221-N | U.S. Department of Energy, Washington, DC | 4 | 02-28-2006
14218-N | Air Logistics of Alaska, Inc., Fairbanks, AK | 4 | 03-31-2006
14197-N | GATX Rail Corporation, Chicago, IL | 4 | 02-28-2006
14199-N | RACCA, Plymouth, MA | 4 | 02-28-2006
14185-N | U.S. Department of Energy, Washington, DC | 4 | 03-31-2006
14184-N | Global Refrigerants, Inc., Denver, CO | 4 | 03-31-2006
14178-N | Brider Fire Inc., Bozeman, MT | 4 | 03-31-2006
14239-N | Marlin Gas Transport, Inc., Odessa, FL | 4 | 04-30-2006
14233-N | U.S. Department of Energy (DOE), Richland, WA | 4 | 04-30-2006
14232-N | Luxfer Gas Cylinders—Composite, Cylinder Division, Riverside, CA | 4 | 04-30-2006
14225-N | The Colibri Group, Providence, RI | 4 | 02-28-2006
14228-N | Aluminum Tank Industries, Inc., Winter Haven, FL | 4 | 04-20-2006
14229-N | Senex Explosives, Inc., Cuddy PA | 4 | 04-30-2006
14228-N | Goodrich Corporation, Colorado Springs, CO | 4 | 04-30-2006
14223-N | Technical Concepts, Mundelein, IL | 4 | 02-28-2006
14212-N | Clean Harbors Environmental Services, Inc., North Andover, MA | 4 | 02-28-2006
14163-N | Air Liquide America L.P., Houston, TX | 4 | 03-31-2006
14141-N | Nalco Company, Naperville, IL | 4 | 03-31-2006
14038-N | Dow Chemical Company, Midland, MI | 1 | 03-31-2006
13582-N | Linde Gas LLC (Linde), Independence, OH | 4 | 03-31-2006
13302-N | FIBA Technologies, Inc., Westboro, MA | 4 | 03-31-2006
13346-N | Stand-By-Systems, Inc., Dallas TX | 1 | 03-31-2006
13563-N | Applied Companies, Valencia, CA | 4 | 03-31-2006
Modification to Special Permits
7277-M | Structural Composites Industries, Pomona, CA | 4 | 03-31-2006
4661-M | Chemtell Foote Corporation, Kings Mountain, NC | 4 | 03-31-2006
11924-M | Wrangler Corporation, Auburn, ME | 4 | 02-28-2006
12929-M | Matheson Tri-Gas, East Rutherford, NJ | 4 | 02-28-2006
11321-M | E.I. Du Pont, Wilmington, DE | 4 | 03-31-2006
13484-M | Air Liquide Industrial U.S. LP (formerly: Air Liquide America L.P.), Houston TX | 4 | 02-28-2006
11917-M | ITW Sexton, Decatur, AL | 4 | 02-28-2006
11321-M | E.I. Du Pont, Wilmington, DE | 4 | 03-31-2006
12412-M | Los Angeles Chemical Company, South Gate, CA | 4 | 03-31-2006
12412-M | Hawkins, Inc., Minneapolis, MN | 3, 4 | 03-31-2006
11903-M | Comptank Corporation, Bothwell, ON | 4 | 03-31-2006
13229-M | Matheson Tri-Gas, East Rutherford, NJ | 4 | 03-31-2006
13327-M | Hawk FRP LLC, Ardmore, OK | 1 | 03-31-2006
13488-M | FABER INDUSTRIES SPA, (U.S. Agent: Kaplan Industries, Maple Shade, NJ) | 4 | 03-31-2006
12284-M | The American Traffic Safety Services Assn. (ATSSA), Fredericksburg, VA | 1 | 03-31-2006
10319-M | Amtrol, Inc., West Warwick, RI | 4 | 03-31-2006
6263-M | Amtrol, Inc., West Warwick, RI | 4 | 03-31-2006
7835-M | Air Products & Chemicals, Inc., Allentown, PA | 4 | 02-28-2006
10019-M | Structural Composites Industries, Pomona, CA | 4 | 03-31-2006
10915-M | Luxfer Gas Cylinders (Composite Cylinder Division), Riverside, CA | 1 | 03-31-2006
7280-M | Department of Defense, Ft. Eustis, VA | 4 | 03-31-2006
11579-M | Dyno Nobel, Inc., Salt Lake City, UT | 4 | 03-31-2006
11241-M | Rohm and Haas Co., Philadelphia, PA | 1 | 03-31-2006
8162-M | Structural Composites Industries, Pomona, CA | 4 | 03-31-2006
8718-M | Structural Composites Industries, Pomona, CA | 4 | 03-31-2006

[FR Doc. 06-1089 Filed 2-6-06; 8:45 am]

BILLING CODE 4910-60-M